DEPARTMENT OF COMMERCE

Submission for OMB Review; Comment Request

The Department of Commerce has submitted to the Office of Management and Budget (OMB) for emergency clearance the following proposal for collection of information under the provisions of the Paperwork Reduction Act (44 U.S.C. Chapter 35).

Agency: National Institute of Standards and Technology (NIST).

Title: Survey of Occupants, First Responders, and Families of Victims of World Trade Center 1, 2, and 7.

Form Number(s): None.

OMB Approval Number: None.

Type of Request: Emergency.

Burden Hours: 3,100.

Number of Respondents: 2,300.

Average Hours Per Response: 1 hour for the questionnaire; and 2 hours for interview participation.

Needs and Uses: NIST will be conducting the Investigation as requested under the WTC Report issued by Congress on February 8, 2002. The objectives of the NIST World Trade Center Investigation are to: (1) Determine technically, why and how the buildings, WTC 1, 2, and 7, collapsed following the initial impact of the aircraft; (2) determine why the injuries and fatalities were so high or low depending on location, including all technical aspects of fire protection, response, evacuation, and occupant behavior and emergency response; (3) determine the procedures and practices that were used in the design, construction, operation, and maintenance of the World Trade Center Buildings; and (4) identify, as specifically as possible, building and fire codes, standards, and practices that warrant revision and are still in use. The proposed information collection will consist of questionnaire and interview segments. This information will be used to develop or refute investigatory hypotheses, support modeling results, and record events inside the buildings which cannot otherwise be determined. This information must be conducted in a timely manner in order to facilitate dissemination to other aspects of the Investigation, including structural analysis, emergency personnel response, thermal environment and interior tenability, and egress and human behavior analysis.

Affected Public: Individuals and households (present at the World Trade Center Complex on the morning of September 11, 2001).

Frequency: One-time.

Respondent Obligation: Voluntary.

OMB Desk Officer: David Rostker, (202) 395-3897.

Copies of the above information collection proposal can be obtained by calling or writing Diana Hynek, Departmental Paperwork Clearance Officer, (202) 482-0266, Department of Commerce, Room 66625, 14th and Constitution Avenue, NW., Washington, DC 20230 (or via the Internet at dHynek@doc.gov).

Written comments and recommendations for the proposed information collection should be sent by December 20, 2002 to David Rostker, OMB Desk Officer, Room 10202, New Executive Office Building, Washington, DC 20503.

Dated: December 6, 2002.
Gwellnar Banks,
Management Analyst, Office of the Chief Information Officer.

[FR Doc. 02-31264 Filed 12-11-02; 8:45 am]

BILLING CODE 3510-13-P